DEPARTMENT OF TRANSPORTATION

Federal Highway Administration

Agency Information Collection Activities: Submission for OMB Review

AGENCY: Federal Highway Administration (FHWA), DOT.

ACTION: Notice.

SUMMARY: The FHWA has forwarded the information collection request described in this notice to the Office of Management and Budget (OMB) for review and comment. We published a Federal Register Notice with a 60-day public comment period on this information collection on November 6, 2000 (65 FR 66578). We are required to publish this notice in the Federal Register by the Paperwork Reduction Act of 1995.

DATES: Please submit comments by March 30, 2001.

ADDRESSES: You may send comments to the Office of Information and Regulatory Affairs, Office of Management and Budget, 725 17th Street, NW., Washington, DC 20503, Attention: DOT Desk Officer. You are asked to comment on any aspect of this information collection, including: (1) Whether the proposed collection is necessary for the FHWA's performance; (2) the accuracy of the estimated burdens; (3) ways for the FHWA to enhance the quality, usefulness, and clarity of the collected information; and (4) ways that the burdens could be minimized, including the use of electronic technology, without reducing the quality of the collected information.

FOR FURTHER INFORMATION CONTACT: Mr. Raymond McCormick, (202) 366-4675, Infrastructure Core Business Unit, Federal Highway Administration, Department of Transportation, 400 7th Street, SW., Washington, DC 20590-0001. Office hours are from 7:30 a.m. to 4:30 p.m., Monday through Friday, except Federal holidays.

SUPPLEMENTARY INFORMATION:

OMB Control Number: 2125-0501 (Expiration Date: April 30, 2001).

Title: Structure Inventory and Appraisal Sheet.

Abstract: The National Bridge Inspection Standards (NBIS) require bridge inspection and reporting at regular intervals for all bridges located on public roads. The bridge inspection information is provided to the FHWA on Structure Inventory and Appraisal (SI&A) Sheets. The NBIS information is used for multiple purposes, including: (1) The determination of the condition of the Nation's bridges; (2) as a basis for setting priorities for the replacement or rehabilitation of bridges under the Highway Bridge Replacement and Rehabilitation Program (HBRRP); and (3) for apportioning HBRRP funds to the States for bridge replacement or rehabilitation. In addition, the information is used for strategic national defense needs and for preparing the report to Congress on the status of the Nation's highway bridges and funding under the HBRRP.

Respondents: 52 State Transportation Departments, including the District of Columbia and Puerto Rico.

Frequency: Biannual inspections and annual reporting.

Estimated Total Annual Burden: 540,000 hours. The average burden is two hours to complete each SI&A sheet on the approximate 270,000 bridges that are inspected annually. The total bridge inventory (rounded to 600,000) requires biannual inspections; approximately 10 percent, or 30,000 of the 300,000 bridges that are inspected each year receive an extended inspection. Some States voluntarily inspect bridges more frequently; however, these estimates do not include this information.

Authority: The Paperwork Reduction Act of 1995; 44 U.S.C. Chapter 35, as amended; and 49 CFR 1.48.

Dated: February 21, 2001.
James R. Kabel,
Chief, Management Programs and Analysis Division.

[FR Doc. 01-4839 Filed 2-27-01; 8:45 am]

BILLING CODE 4910-22-P